DEPARTMENT OF HOMELAND SECURITY

Federal Emergency Management Agency

[Docket ID FEMA-2011-0035; OMB No. 1660-0008]

Agency Information Collection Activities: Submission for OMB Review; Comment Request, Elevation Certificate/Floodproofing Certificate

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. The program office made a correction to the respondents estimated cost mathematical calculation. The estimated cost to respondents has increased from $1,251,250 to $2,301,250. FEMA received one comment in response to the previous 60-day Federal Register Notice published on November 21, 2011.

DATES: Comments must be submitted on or before April 2, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Elevation Certificate/Floodproofing Certificate.

Type of information collection: Revision of a currently approved collection.

OMB Number: 1660-0008.

Form Titles and Numbers: FEMA Form 81-31, Elevation Certificate, FEMA Form 81-65, Floodproofing Certificate.

Abstract: The Elevation Certificate and Floodproofing Certificate are used in conjunction with the application for flood insurance. The certificates are required to properly rate post Flood Insurance Rate Map (FIRM) structures, which are buildings constructed after the publication of the initial FIRM or December 31, 1974, for flood insurance in Special Flood Hazard Areas. In addition, the Elevation Certificate is needed for pre-FIRM structures, which are buildings constructed before the initial FIRM or December 31, 1974, that are being rated under post-FIRM flood insurance rules. The certificates provide community officials and others standardized documents to readily record needed building elevation information. National Flood Insurance Policy policyholders/applicants provide the appropriate certificate to insurance agents. The certificate is then used in conjunction with the insurance application so that the building can be properly rated for flood insurance.

Affected Public: Individuals and households, Business or other for-profit, State, Local or Tribal Government.

Estimated Number of Respondents: 6,575.

Frequency of Response: On Occasion.

Estimated Average Hour Burden per Respondent: FEMA Form 81-31, Elevation Certificate, 3.75 hours; FEMA Form 81-65, Floodproofing Certificate, 3.25 hours.

Estimated Total Annual Burden Hours: 24,649 hours.

Estimated Cost: The estimated cost to respondents for purchasing professional services required to complete the certificates is $2,301,250.

Dated: February 23, 2012.
Anthony M. Bennett,
Acting Director, Records Management Division, Mission Support Bureau, Federal Emergency Management Agency, Department of Homeland Security.

[FR Doc. 2012-4902 Filed 2-29-12; 8:45 am]

BILLING CODE 9111-42-P